DEPARTMENT OF HOMELAND SECURITY

Office of the Secretary

Notice of Availability for Policy Guidance Related to Implementation of the Migrant Protection Protocols

AGENCY: Office of the Secretary, Department of Homeland Security.

ACTION: Notice of availability.

SUMMARY: This document announces the availability of the “Policy Guidance for Implementation of the Migrant Protection Protocols” on the Department of Homeland Security (DHS) website, and of other related documents on DHS component websites.

DATES: The policy guidance was issued on January 25, 2019.

SUPPLEMENTARY INFORMATION: On December 20, 2018, the Secretary of Homeland Security (Secretary) announced that DHS, consistent with the Migrant Protection Protocols, would begin implementation of section 235(b)(2)(C) of the Immigration and Nationality Act on a wide-scale basis to resolve the migration crisis along our southern border.

On January 25, 2019, the Secretary issued “Policy Guidance for Implementation of the Migrant Protection Protocols.” The January 25, 2019, policy guidance is available on the DHS website at the following location: https://www.dhs.gov/sites/default/files/publications/19_0129_OPA_migrant-protection-protocols-policy-guidance.pdf.

DHS components subsequently issued the following related documents, which are available on the DHS component websites at the following locations:

• U.S. Customs and Border Protection, Guiding Principles for Migrant Protection Protocols (Jan. 28, 2019), available at https://www.cbp.gov/sites/default/files/assets/documents/2019-Jan/MPP%20Guiding%20Principles%201-28-19.pdf.

• U.S. Customs and Border Protection, Memorandum from Kevin K. McAleenan, Commissioner, for Todd C. Owen, Executive Assistant Commissioner, Field Operations, and Carla L. Provost, Chief, U.S. Border Patrol, Implementation of the Migrant Protection Protocols (Jan. 28, 2019), available at https://www.cbp.gov/sites/default/files/assets/documents/2019-Jan/Implementation%20of%20the%20Migrant%20Protection%20Protocols.pdf.

• U.S. Customs and Border Protection, Memorandum from Todd A. Hoffman, Executive Director, Admissibility and Passenger Programs, Office of Field Operations, for Director, Field Operations, Office of Field Operations and Director Field Operators Academy, Office of Training and Development, Guidance on Migrant Protection Protocols (Jan. 28, 2019), available at https://www.cbp.gov/sites/default/files/assets/documents/2019-Jan/MPP%20OFO%20Memo%201-28-19.pdf.

• U.S. Immigration and Customs Enforcement, Memorandum from Ronald Vitello, Deputy Director and Senior Official Performing the Duties of the Director, for Executive Associate Directors and Principal Legal Advisor, Implementation of the Migrant Protection Protocols (Feb. 12, 2019), available at https://www.ice.gov/factsheets/migrant-protection-protocols-mpp.

• U.S. Immigration and Customs Enforcement, Memorandum from Nathalie R. Asher, Acting Executive Associate Director, for Field Office Directors, Enforcement and Removal Operations, Migrant Protection Protocols Guidance (Feb. 12, 2019), available at https://www.ice.gov/sites/default/files/documents/Fact%20sheet/2019/ERO-MPP-Implementation-Memo.pdf.

• U.S. Citizenship and Immigration Services, Policy Memorandum PM-602-0169, Guidance for Implementing Section 235(b)(2)(C) of the Immigration and Nationality Act and the Migrant Protection Protocols (Jan. 28, 2019), available at https://www.uscis.gov/sites/default/files/USCIS/Laws/Memoranda/2019/2019-01-28-Guidance-for-Implementing-Section-35-b-2-C-INA.pdf.

Kirstjen M. Nielsen,
Secretary.

[FR Doc. 2019-03541 Filed 2-27-19; 8:45 am]

BILLING CODE 9110-9B-P